DEPARTMENT OF THE TREASURY

Internal Revenue Service

26 CFR Part 1

[REG-209601-92]

RIN 1545-AR19

Taxation of Tax-Exempt Organizations' Income From Corporate Sponsorship; Correction

AGENCY: Internal Revenue Service (IRS), Treasury.

ACTION: Correction to notice of proposed rulemaking and notice of public hearing.

SUMMARY: This document contains corrections to a notice of proposed rulemaking and notice of public hearing which was published in the Federal Register on Wednesday, March 1, 2000 (65 FR 11012), relating to the tax treatment of sponsorship payments received by exempt organizations.

FOR FURTHER INFORMATION CONTACT: Stephanie Lucas Caden at (202) 622-6080.

SUPPLEMENTARY INFORMATION:

Background

The proposed regulations that are the subject of this correction are under section 512 of the Internal Revenue Code.

Need for Correction

As published, the proposed regulations [REG-209601-92] contain errors that may prove to be misleading and are in need of clarification.

Correction of Publication

Accordingly, the publication of the proposed regulations [REG-209601-92], which were the subject of FR Doc. 00-4848, is corrected as follows:

1. On page 11012, third column, in the preamble, the last sentence under the caption ADDRESSES is corrected to read, “The public hearing will be held in room 4718, Internal Revenue Building, 1111 Constitution Avenue, NW., Washington, DC.”.

2. On page 11012, third column, in the preamble, the text under the caption FOR FURTHER INFORMATION CONTACT is corrected to read, “Concerning the regulations, Stephanie Lucas Caden at (202) 622-6080; concerning submissions and the hearing, LaNita VanDyke at (202) 622-7180 (not toll-free numbers).”.

3. On page 11015, second column, the first sentence of the second paragraph under the caption Comments and Public Hearing is corrected to read, “A public hearing has been scheduled for June 21, 2000, at 10 a.m. in room 4718, Internal Revenue Building, 1111 Constitution Avenue, NW., Washington, DC.”.

§ 1.513-4 [Corrected]

4. On page 11018, third column, in the 22nd line of § 1.513-4(f) Example 8, the language “Music Shop's name and address in the lobby” is corrected to read, “Music Shop's name, address and telephone number in the lobby”.

Dale D. Goode,
Federal Register Liaison, Assistant Chief Counsel (Corporate).

[FR Doc. 00-8030 Filed 4-4-00; 8:45 am]

BILLING CODE 4830-01-P